SUSQUEHANNA RIVER BASIN COMMISSION

Commission Meeting

AGENCY: Susquehanna River Basin Commission.

ACTION: Notice.

SUMMARY: The Susquehanna River Basin Commission will hold its regular business meeting on September 7, 2017, in Elmira, New York. Details concerning the matters to be addressed at the business meeting are contained in the SUPPLEMENTARY INFORMATION section of this notice.

DATES: The meeting will be held on Thursday, September 7, 2017, at 9 a.m.

ADDRESSES: The meeting will be held at the Holiday Inn Elmira Riverview, Ballroom, 760 E. Water St., Elmira, NY 14901.

FOR FURTHER INFORMATION CONTACT: Jason E. Oyler, General Counsel, 717-238-0423, ext. 1312.

SUPPLEMENTARY INFORMATION: The business meeting will include actions or presentations on the following items: (1) Informational presentation of interest to the Chemung Subbasin area; (2) ratification/approval of contracts/grants; (3) adoption of alternatives analysis guidance; (4) amendment of delegation authority to the Executive Director; (5) report on delegated settlements; (6) resolution adopting amendments to Commission's By-laws; (7) Middletown Borough request for waiver of application required by 18 CFR 806.6(a)(5) and (b); (8) Peak Resorts, Inc.-Greek Peak Mountain Resort request for waiver of 18 CFR 806.6(b)(1); (9) request for waiver of 18 CFR 806.31(e) as it pertains to the renewal of Docket No. 19870901 for Carrolltown Borough Municipal Authority; and (10) Regulatory Program projects and requests for extension of emergency certificates, including for Sunset Golf Course, Sunoco Pipeline L.P. and Furman Foods, Inc.

Projects, the alternatives analysis guidance and the request of waiver by Middletown Borough are those that were the subject of a public hearing conducted by the Commission on August 3, 2017, and identified in the notice for such hearing, which was published in 82 FR 31134, July 5, 2017.

The public is invited to attend the Commission's business meeting. Comments on the Regulatory Program projects, the alternatives analysis guidance, and the request for waiver by Middletown Borough were subject to a deadline of August 14, 2017. Written comments pertaining to other items on the agenda at the business meeting may be mailed to the Susquehanna River Basin Commission, 4423 North Front Street, Harrisburg, Pennsylvania 17110-1788, or submitted electronically through http://www.srbc.net/pubinfo/publicparticipation.htm. Such comments are due to the Commission on or before August 31, 2017. Comments will not be accepted at the business meeting noticed herein.

Authority: Pub. L. 91-575, 84 Stat. 1509 et seq., 18 CFR parts 806, 807, and 808.

Dated: August 3, 2017.
Stephanie L. Richardson,
Secretary to the Commission.

[FR Doc. 2017-16728 Filed 8-8-17; 8:45 am]

BILLING CODE 7040-01-P